DEPARTMENT OF ENERGY

Federal Energy Regulatory Commission

Combined Notice of Filings #1

Take notice that the Commission received the following electric corporate filings:

Docket Numbers: EC19-81-000.

Applicants: Alta Oak Realty, LLC, Oak Creek Wind Power, LLC, ON Wind Energy, LLC.

Description: Application for Authorization Under Section 203 of the Federal Power Act, et al. of Alta Oak Realty, LLC, et al.

Filed Date: 4/25/19.

Accession Number: 20190425-5180.

Comments Due: 5 p.m. ET 5/16/19.

Docket Numbers: EC19-82-000.

Applicants: Utah Red Hills Renewable Park, LLC.

Description: Application for Authorization Under Section 203 of the Federal Power Act, et al. of Utah Red Hills Renewable Park, LLC.

Filed Date: 4/25/19.

Accession Number: 20190425-5186.

Comments Due: 5 p.m. ET 5/16/19.

Take notice that the Commission received the following electric rate filings:

Docket Numbers: ER19-81-000.

Applicants: Athens Energy, LLC.

Description: Report Filing: Response Regarding Refunds to be effective N/A.

Filed Date: 4/26/19.

Accession Number: 20190426-5003.

Comments Due: 5 p.m. ET 5/17/19.

Docket Numbers: ER19-915-001.

Applicants: Midcontinent Independent System Operator, Inc.

Description: Compliance filing: 2019-04-26_Compliance to RAN Outage Coordination Filing to be effective 4/1/2019.

Filed Date: 4/26/19.

Accession Number: 20190426-5138.

Comments Due: 5 p.m. ET 5/17/19.

Docket Numbers: ER19-1137-002.

Applicants: Southwest Power Pool, Inc.

Description: Tariff Amendment: Amended Filing in ER19-1137—East Texas Cooperatives Stated Rate Revisions to be effective 6/1/2019.

Filed Date: 4/26/19.

Accession Number: 20190426-5199.

Comments Due: 5 p.m. ET 5/6/19.

Docket Numbers: ER19-1364-001.

Applicants: Midcontinent Independent System Operator, Inc.

Description: Tariff Amendment: 2019-04-25_SA 3267_Astoria Substation Sub MPFCA (J493 J510) OTP to be effective 3/19/2019.

Filed Date: 4/25/19.

Accession Number: 20190425-5145.

Comments Due: 5 p.m. ET 5/6/19.

Docket Numbers: ER19-1634-001; ER13-1141-004; ER13-1142-004; ER17-1849-004; ER16-918-003; ER19-1633-001; ER15-1657-009; ER19-1638-001.

Applicants: Bridgeport Energy LLC, Essential Power Massachusetts, LLC, Essential Power Newington, LLC, Nautilus Power, LLC, Rhode Island State Energy Center, LP, Rumford Power LLC, SEPG Energy Marketing Services, LLC, Tiverton Power LLC.

Description: Notice of Non-Material Change in Status of Bridgeport Energy LLC, et al.

Filed Date: 4/25/19.

Accession Number: 20190425-5179.

Comments Due: 5 p.m. ET 5/16/19.

Docket Numbers: ER19-1678-000.

Applicants: New York Independent System Operator, Inc.

Description: § 205(d) Rate Filing: 205 re: locational operating reserves region for NYC (Load Zone J) to be effective 6/26/2019.

Filed Date: 4/26/19.

Accession Number: 20190426-5001.

Comments Due: 5 p.m. ET 5/17/19.

Docket Numbers: ER19-1679-000.

Applicants: Duke Energy Florida, LLC.

Description: § 205(d) Rate Filing: Joint OATT Power Losses (DEF) 2019 to be effective 5/1/2019.

Filed Date: 4/26/19.

Accession Number: 20190426-5005.

Comments Due: 5 p.m. ET 5/17/19.

Docket Numbers: ER19-1680-000.

Applicants: Southwest Power Pool, Inc.

Description: § 205(d) Rate Filing: 2236R11 Golden Spread Electric Cooperative, Inc. NITSA NOA to be effective 4/1/2019.

Filed Date: 4/26/19.

Accession Number: 20190426-5006.

Comments Due: 5 p.m. ET 5/17/19.

Docket Numbers: ER19-1681-000.

Applicants: New England Power Company.

Description: § 205(d) Rate Filing: Related Facilities Agreement with Calpine Fore River Energy Center to be effective 3/28/2019.

Filed Date: 4/26/19.

Accession Number: 20190426-5042.

Comments Due: 5 p.m. ET 5/17/19.

Docket Numbers: ER19-1682-000.

Applicants: American Transmission Systems, Incorporated, PJM Interconnection, L.L.C.

Description: § 205(d) Rate Filing: ATSI submits an ECSA, Service Agreement No. 5269 with The Ohio Edison Company to be effective 6/25/2019.

Filed Date: 4/26/19.

Accession Number: 20190426-5074.

Comments Due: 5 p.m. ET 5/17/19.

Docket Numbers: ER19-1683-000; TS19-3-000.

Applicants: Southern Power Company, Wildhorse Wind Energy, LLC.

Description: Petition for Waiver of the requirement of Order Nos. 888, et al. of Wildhorse Wind Energy, LLC.

Filed Date: 4/26/19.

Accession Number: 20190426-5140.

Comments Due: 5 p.m. ET 5/17/19.

Docket Numbers: ER19-1684-000.

Applicants: Midcontinent Independent System Operator, Inc., Ameren Illinois Company.

Description: § 205(d) Rate Filing: 2019-04-26_SA 2005 Ameren-Hoosier WDS Agreement to be effective 7/1/2019.

Filed Date: 4/26/19.

Accession Number: 20190426-5139.

Comments Due: 5 p.m. ET 5/17/19.

Docket Numbers: ER19-1685-000.

Applicants: Southwest Power Pool, Inc.

Description: § 205(d) Rate Filing: 607R35 Westar Energy, Inc. NITSA NOA to be effective 4/1/2019.

Filed Date: 4/26/19.

Accession Number: 20190426-5159.

Comments Due: 5 p.m. ET 5/17/19.

Docket Numbers: ER19-1686-000.

Applicants: Midcontinent Independent System Operator, Inc.

Description: § 205(d) Rate Filing: 2019-04-26_SA 2240 ITC-Sumpter Energy 1st Rev GIA (J043 J646) to be effective 4/10/2019.

Filed Date: 4/26/19.

Accession Number: 20190426-5160.

Comments Due: 5 p.m. ET 5/17/19.

Docket Numbers: ER19-1687-000.

Applicants: Southwest Power Pool, Inc.

Description: § 205(d) Rate Filing: SPS Formula Rate Revisions to Incorporate Changes Accepted in ER18-2410 to be effective 1/1/2019.

Filed Date: 4/26/19.

Accession Number: 20190426-5188.

Comments Due: 5 p.m. ET 5/17/19.

Docket Numbers: ER19-1688-000.

Applicants: Midcontinent Independent System Operator, Inc., Ameren Illinois Company.

Description: § 205(d) Rate Filing: 2019-04-26_SA 1951 Ameren-IMEA WDS Agreement to be effective 7/1/2019.

Filed Date: 4/26/19.

Accession Number: 20190426-5207.

Comments Due: 5 p.m. ET 5/17/19.

Docket Numbers: ER19-1689-000.

Applicants: Public Service Company of Colorado.

Description: Initial rate filing: 20190426_Non-Conforming Market-Based Rate Agreements to be effective 7/1/2019.

Filed Date: 4/26/19.

Accession Number: 20190426-5214.

Comments Due: 5 p.m. ET 5/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2019.
Nathaniel J. Davis, Sr.,
Deputy Secretary.

[FR Doc. 2019-08901 Filed 5-1-19; 8:45 am]

BILLING CODE 6717-01-P